NATIONAL AERONAUTICS AND SPACE ADMINISTRATION

[Notice 01-120]

NASA Advisory Council (NAC), Earth Systems Science and Applications Advisory Committee (ESSAAC); Meeting

AGENCY: National Aeronautics and Space Administration.

ACTION: Notice of meeting change.

SUMMARY: In accordance with the Federal Advisory Committee Act, Pub. L. 92-463, as amended, the National Aeronautics and Space Administration announces a meeting of the NASA Advisory Council, Earth Systems Science and Applications Advisory Committee.

DATES: Tuesday, October 16, 2001, 8:30 a.m. to 5:30 p.m.; and Wednesday, October 17, 2001, 8:30 a.m. to 5:30 p.m.

Previously Announced Location: NASA Headquarters, 300 E Street SW, Room 9H40, Washington, DC, 20546.

Change in the Meeting: The meeting will now be held at the Holiday Inn Capitol, Discovery II Room, 500 C Street SW., Washington, DC 20003.

FOR FURTHER INFORMATION CONTACT: Dr. Robert Schiffer, Code YS, National Aeronautics and Space Administration, Washington, DC 20546, 202/358-1876.

Beth M. McCormick,
Advisory Committee Management Officer, National Aeronautics and Space Administration.

[FR Doc. 01-25323 Filed 10-9-01; 8:45 am]

BILLING CODE 7510-01-P